LIBRARY OF CONGRESS

U.S. Copyright Office

[Docket No. 2015-7]

Section 512 Study: Extension of Comment Period

AGENCY: U.S. Copyright Office, Library of Congress.

ACTION: Extension of comment period.

SUMMARY: The United States Copyright Office is extending the deadlines for the submission of written comments and empirical research studies in response to its November 8, 2016 request for additional comments (“Second Notice”) regarding the Digital Millennium Copyright Act (“DMCA”) safe harbor provisions contained in 17 U.S.C. 512.

DATES: Written responses to the questions outlined in the Second Notice are now due no later than 11:59 p.m. Eastern Time on February 21, 2017. Empirical research studies are due no later than 11:59 p.m. Eastern Time on March 22, 2017.

ADDRESSES: For reasons of government efficiency, the Copyright Office is using the regulations.gov system for the submission and posting of public comments in this proceeding. All comments are therefore to be submitted electronically through regulations.gov. Specific instructions for submitting comments are available on the Copyright Office Web site at http://copyright.gov/policy/section512/comment-submission/. If electronic submission of comments is not feasible due to lack of access to a computer and/or the Internet, please contact the Office, using the contact information below, for special instructions.

FOR FURTHER INFORMATION CONTACT: Cindy Abramson, Assistant General Counsel, by email at ciab@loc.gov or by telephone at 202-707-8350; Kevin Amer, Senior Counsel for Policy and International Affairs, by email at kamer@loc.gov or by telephone at 202-707-8350; or Kimberley Isbell, Senior Counsel for Policy and International Affairs, by email at kisb@loc.gov or by telephone at 202-707-8350.

SUPPLEMENTARY INFORMATION: The United States Copyright Office is conducting a study to evaluate the impact and effectiveness of the DMCA safe harbor provisions contained in 17 U.S.C. 512. The Office published an initial Notice of Inquiry on December 31, 2015, seeking written comments to thirty questions covering eight categories of topics.¹ After receiving more than 92,000 responses and holding public roundtables, the Office published a Second Notice on November 8, 2016.² The Second Notice sought responses to sixteen additional questions and also invited parties to submit empirical research studies assessing issues related to the operation of the safe harbor provisions on a quantitative or qualitative basis. To ensure that commenters have sufficient time to respond, the Office is extending the deadline for submission of comments in response to the questions provided in the Second Notice to February 21, 2017, at 11:59 p.m. Eastern Time, and the deadline for submission of empirical research studies to March 22, 2017, at 11:59 p.m. Eastern Time. Please note that in light of the expected time frame for this study, the Office is unlikely to grant further extensions for these submissions.

¹ See Section 512 Study: Notice and Request for Public Comment, 80 FR 81682 (Dec. 31, 2015).

² See Section 512 Study: Request for Additional Comments, 81 FR 78636 (Nov. 8, 2016).

Dated: January 24, 2017.
Karyn Temple Claggett
Acting Register of Copyrights and Director of the U.S. Copyright Office.

[FR Doc. 2017-01888 Filed 1-26-17; 8:45 am]

BILLING CODE 1410-30-P